DEPARTMENT OF ENERGY

Federal Energy Regulatory Commission

[Docket No. EC05-97-000]

MACH Gen, LLC, Millennium Power Partners, L.P., New Athens Generating Company, LLC, New Covert Generating Company, LLC, New Harquahala Generating Company, LLC; Notice Of Filing

June 23, 2005.

Take notice that on June 17, 2005, MACH Gen, LLC, (MACH Gen) Millennium Power Partners, L.P., New Athens Generating Company, LLC, New Covert Generating Company, LLC, and New Harquahala Generating Company, LLC (collectively, Applicants) filed with the Federal Energy Regulatory Commission (Commission) an application pursuant to section 203 of the Federal Power Act (FPA), on behalf of themselves and the current and future owners of equity interests in MACH Gen, requesting authorization for an indirect disposition of jurisdictional facilities resulting from certain proposed transfers of ownership and/or control of equity interests in MACH Gen (the Transfers). Applicants also request certain limited waivers of the Commission's Part 33 filing requirements that are not necessary to ensure that the Transfers meet the statutory requirements of section 203 of the FPA. In addition, Applicants request that the Commission grant blanket authorization under section 203 for certain categories of future transfers of ownership and/or control of equity interests in MACH Gen.

Any person desiring to intervene or to protest in the above proceeding must file in accordance with Rules 211 and 214 of the Commission's Rules of Practice and Procedure (18 CFR 385.211 and § 385.214) on or before 5 pm Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First Street, NE., Washington, DC 20426.

The filing in the above proceeding is accessible in the Commission's eLibrary system. It is also available for review in the Commission's Public Reference Room in Washington, DC. There is an eSubscription link on the Web site that enables subscribers to receive email notification when a document is added to a subscribed docket(s). For assistance with any FERC Online service, please e-mail FERCOnlineSupport@ferc.gov or call (866) 208-3676 (toll free). For TTY, call (202) 502-8659.

Comment Date: 5 p.m. on July 8, 2005.

Linda Mitry,
Deputy Secretary.

[FR Doc. E5-4154 Filed 8-2-05; 8:45 am]

BILLING CODE 6717-01-P